DEPARTMENT OF AGRICULTURE

Food Safety and Inspection Service

[Docket No. FSIS-2014-0004]

Codex Alimentarius Commission: Meeting of the Codex Committee on General Principles

AGENCY: Office of the Under Secretary for Food Safety, USDA.

ACTION: Notice of public meeting and request for comments.

SUMMARY: The Office of the Under Secretary for Food Safety, U.S. Department of Agriculture (USDA) is sponsoring a public meeting on March 27, 2014. The objective of the public meeting is to provide information and receive public comments on agenda items and draft United States positions to be discussed at the Twenty-eighth session of the Codex Committee on General Principles (CCGP) of the Codex Alimentarius Commission (Codex), that will take place in Paris, France, April 7-11, 2014. The Under Secretary for Food Safety recognizes the importance of providing interested parties the opportunity to obtain background information on the 28th session of CCGP and to address items on the agenda.

DATES: The public meeting is scheduled for Thursday, March 27, 2014 from 1:00 p.m. to 4:00 p.m.

ADDRESSES: The public meeting will take place at the Jamie L. Whitten Building, United States Department of Agriculture, 1400 Independence Avenue SW., Room 107-A, Washington, DC 20250.

Documents related to the 28th session of CCGP will be accessible via the Internet at the following address: http://www.codexalimentarius.org/meetings-reports/en/.

Mary Frances Lowe, U.S. Delegate to the 28th session of CCGP, invites U.S. interested parties to submit their comments electronically to the following email address: USCODEX@fsis.usda.gov.

Call In Number: If you wish to participate in the public meeting for the 28th session of CCGP by conference call, Please use the call in number and participant code listed below:

Call in Number: 1 (888) 844-9904.

Participant Code: 5126092.

For Further Information About the 28th Session of CCGP Contact: Mary Frances Lowe, U.S. Codex Office, 1400 Independence Avenue SW., Room 4861, Washington, DC 20250; Phone: (202) 205-7760, Fax: (202) 720-3157, Email: USCODEX@fsis.usda.gov.

For Further Information About the Public Meeting Contact: Barbara McNiff, U.S. Codex Office, 1400 Independence Avenue SW., Room 4861, Washington, DC 20250; Phone: (202) 205-7760, Fax: (202) 720-3157, Email: USCODEX@fsis.usda.gov.

SUPPLEMENTARY INFORMATION:

Background

The Codex Alimentarius (Codex) was established in 1963 by two United Nations organizations, the Food and Agriculture Organization and the World Health Organization. Through adoption of food standards, codes of practice, and other guidelines developed by its committees, and by promoting their adoption and implementation by governments, Codex seeks to protect the health of consumers and ensure fair practices in the food trade.

The CCGP is responsible for dealing with procedural and general matters referred to it by the Codex Alimentarius Commission, for proposing amendments to the Codex Procedural Manual, and for reviewing and endorsing procedural provisions and texts forwarded by Codex Committees for inclusion in the Procedural Manual.

The Committee is hosted by France.

Issues To Be Discussed at the Public Meeting

The following items on the Agenda for the 28th session of CCGP will be discussed during the public meeting:

• Matters Referred to the Committee.

• Review of Risk Analysis texts of different committees—CCRVDF.

• Standards held at Step 8.

• Issues related to economic impact statements.

• Proposed amendment to the terms of reference of the Committee.

• Codex/OIE Cooperation.

• Representation of Officers of the CAC in Codex sessions other than sessions of the CCEXEC and CAC.

• Reference to information documents.

• Cooperation between General Subject Committees and Commodity Committees.

• Codex work management: Committees and critical review.

• Role of the Chair and Vice-chairs of the Codex Alimentarius Commission for the purpose of Rule V.1 of the Rules of Procedure.

• Other Business and Future work.

Each issue listed will be fully described in documents distributed, or to be distributed, by the Secretariat prior to the Meeting. Members of the public may access or request copies of these documents (see ADDRESSES).

Public Meeting

At the March 27, 2014 public meeting, draft U.S. positions on the agenda items will be described and discussed, and attendees will have the opportunity to pose questions and offer comments. Written comments may be offered at the meeting or sent to the U.S. Delegate for the 28th session of CCGP, Mary Frances Lowe (see ADDRESSES). Written comments should state that they relate to activities of the 28th session of CCGP.

Additional Public Notification

FSIS will announce this notice online through the FSIS Web page located at http://www.fsis.usda.gov/wps/portal/fsis/topics/regulations/federal-register. FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. In addition, FSIS offers an electronic mail subscription service which provides automatic and customized access to selected food safety news and information. This service is available at http://www.fsis.usda.gov/wps/portal/fsis/programs-and-services/email-subscription-service. Options range from recalls to export information to regulations, directives, and notices. Customers can add or delete subscriptions themselves, and have the option to password protect their accounts.

USDA Nondiscrimination Statement

The U.S. Department of Agriculture (USDA) prohibits discrimination in all its programs and activities on the basis of race, color, national origin, gender, religion, age, disability, political beliefs, sexual orientation, and marital or family status. (Not all prohibited bases apply to all programs.)

Persons with disabilities who require alternative means for communication of program information (Braille, large print, audiotape, etc.) should contact USDA's Target Center at (202) 720-2600 (voice and TTY).

To file a written complaint of discrimination, write USDA, Office of the Assistant Secretary for Civil Rights, 1400 Independence Avenue SW., Washington, DC 20250-9410 or call (202) 720-5964 (voice and TTY). USDA is an equal opportunity provider and employer.

Done at Washington, DC on: March 6, 2014.
Paulo Almeida,
Associate U.S. Manager for Codex Alimentarius.

[FR Doc. 2014-05220 Filed 3-7-14; 4:15 pm]

BILLING CODE 3410-DM-P